FEDERAL COMMUNICATIONS COMMISSION

47 CFR Part 73

[DA 01-867; MM Docket No. 01-87, RM-10092]

Television Broadcasting Services; International Falls and Chisholm, MN

AGENCY: Federal Communications Commission.

ACTION: Proposed rule.

SUMMARY: This document requests comments on a petition for rule making filed on behalf of Channel 11 License, Inc., permittee of Channel 11, International Falls, Minnesota (File No. BPCT-960709KR), requesting the reallotment of NTSC Channel 11 from International Falls to Chisholm, Minnesota, as that community's first local television transmission service and modification of its authorization accordingly, pursuant to the provisions of Section 1.420(i) of the Commission's Rules. There is no paired DTV channel for Channel 11 at International Falls. Coordinates used for Channel 11 at Chisholm are 47-51-39 NL and 92-56-43 WL. As Chisholm, Minnesota, is located within 400 kilometers (250 miles) of the United States-Canada border, the Commission must obtain concurrence of the Canadian Government to this proposal.

DATES: Comments must be filed on or before May 28, 2001, and reply comments on or before June 12, 2001.

ADDRESSES: Federal Communications Commission, Washington, DC 20554. In addition to filing comments with the FCC, interested parties should serve the petitioner's counsel, as follows: Tom W. Davidson and Natalie G. Roisman, Esqs., Akin Gump Strauss Hauer & Feld, L.L.P., 1333 New Hampshire Ave., NW., Washington, DC 20036.

FOR FURTHER INFORMATION CONTACT: Nancy Joyner, Mass Media Bureau, (202) 418-2180.

SUPPLEMENTARY INFORMATION: This is a synopsis of the Commission's Notice of Proposed Rule Making, MM Docket No. 01-87, adopted March 28, 2001, and released April 6, 2001. The full text of this Commission decision is available for inspection and copying during normal business hours in the FCC's Reference Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR part 73 as follows:

PART 73—TELEVISION BROADCAST SERVICES

1. The authority citation for part 73 continues to read as follows:

Authority: 47 U.S.C. 154, 303, 334 and 336.

§ 73.606 [Amended]

2. Section 73.606(b), the Table of TV Allotments under Minnesota, is amended by adding Chisholm, Channel 11, and removing International Falls, Channel 11.

Federal Communications Commission.
John A. Karousos,
Chief, Allocations Branch, Policy and Rules Division, Mass Media Bureau.

[FR Doc. 01-9834 Filed 4-19-01; 8:45 am]

BILLING CODE 6712-01-P